DEPARTMENT OF AGRICULTURE

Office of the Secretary

Notice of Request for an Extension of a Currently Approved Information Collection

AGENCY: Office of Advocacy and Outreach, USDA/1890 Programs.

ACTION: Notice and request for comments.

SUMMARY: In accordance with the Paperwork Reduction Act of 1995 (44 U.S.C. chapter 35), this notice announces the Office of Advocacy and Outreach, USDA/1890 Program's intention to request an extension for a currently approved information collection for the USDA/1890 National Scholars Program.

DATES: Comments on this notice must be received by September 28, 2015 to be assured of consideration.

ADDRESSES: Office of Advocacy and Outreach invites interested persons to submit comments on this notice. Comments may be submitted by one of the following methods:

Federal eRulemaking Portal: Go to http://www.regulations.gov. This site provides the ability to type short comments directly into the comment field on this Web page or attach a file for lengthier comments. Follow the on-line instructions for submitting comments. Send all U.S. Postal Service Mail and courier delivered submissions to: Docket Clerk, U.S. Department of Agriculture, Office of Advocacy and Outreach, 1400 Independence Avenue SW., Room 520-A, Whitten Building, Washington, DC 20250.

Instructions: All items submitted by mail or electronic mail must include the Agency name, Office of Advocacy and Outreach. Comments received in response to this docket will be made available for public inspection and posted without change, including any personal information, to http://www.regulations.gov.

Docket: For access to background documents or comments received, send to the Office of Advocacy and Outreach, 1400 Independence Avenue SW., 520-A, Whitten Building, Washington, DC 20250 between 8:00 a.m. and 4:30 p.m., Monday through Friday.

FOR FURTHER INFORMATION CONTACT: Mary Jordan, USDA/1890 National Scholar Program Coordinator, U.S. Department of Agriculture, 1400 Independence Avenue SW., 520-A, Whitten Building, Washington, DC 20250 or call (202) 205-4307 (O) or (202) 720-7136 (Fax).

SUPPLEMENTARY INFORMATION: Title: USDA/1890 National Scholars Program Application.

OMB Number: 0503-0015.

Expiration Date of Approval: August 31, 2015.

Type of Request: Extension of a currently approved information collection.

Abstract: The USDA/1890 National Scholars Program is a joint human capital initiative between the U.S. Department of Agriculture (USDA) and the 1890 Historically Black Land-Grant Universities. Through the 1890 Program, USDA offers scholarships to high school and college students who are seeking a bachelor's degree in the fields of agriculture, food, or natural resource sciences and related disciplines at 1890 Land-Grant Universities. In order for graduating high school students and current freshman and sophomores to be considered for the scholarship, a completed application is required. The first section of the high school application requests the applicant to include biographical information (i.e. name, address, age, etc.); educational background information (i.e. grade point average, test scores, name of university(ies), interested in attending, and desired major); and extracurricular activities. The second section of the application is completed by the student's guidance counselor and requests information pertaining to the student's academic status, grade point average, and test scores. The last section of the application, which is to be completed by a teacher, provides information that assesses the applicant's interests, habits, and potential. Two letters of recommendation must be submitted on behalf of the applicant. The letters may be from a Department Head, Dean of a College, or one of the University Vice Presidents or a College Professor for college-level applicants; and the Principal, Assistant Principal, Career Counselor, Guidance Counselor, or a Teacher for high school applicants. There are no sections included in the application that these individuals will need to complete.

Estimate of Burden: Public reporting burden for this collection of information is estimated to average 1 hour per response.

Respondents: High School Students, Freshman, and Sophomore College Students, Teachers, and Guidance Counselors.

Estimated Number of Respondents: 2,400 (600 applications).

Estimated Number of Responses per Respondent: 1.

Estimated Total Annual Burden on Respondents: 7,200 hours.

Comments are invited on: (1) Whether the proposed collection of information is necessary for the proper performance of the functions of the agency, including whether the information will have practical utility; (2) the accuracy of the Agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Mary Jordan, USDA/1890 National Scholars Program Coordinator, U.S. Department of Agriculture, 1400 Independence Avenue SW., 520-A, Whitten Building, Washington, DC 20250. All comments received will be available for public inspection during regular business hours at the same address. All responses to this notice will be summarized and included in the request for OMB approval. All comments will become a matter of public record.

Christian Obineme,
Associate Director, Office of Advocacy and Outreach.

[FR Doc. 2015-18118 Filed 7-29-15; 8:45 am]

BILLING CODE P